SMALL BUSINESS ADMINISTRATION

13 CFR Parts 120, 124, and 125

Tribal Consultation for SBA's Office of Manufacturing and Trade and Other Small Business Programs and Services Offered by the Agency, With a Focus on SBA's Ongoing Manufacturing, Onshoring and Export Initiatives To Encourage Small Businesses Going Global

AGENCY: U.S. Small Business Administration.

ACTION: Notice of tribal consultation meeting.

SUMMARY: The U.S. Small Business Administration (SBA) announces that it is holding a tribal consultation meeting in Mashantucket, Connecticut requesting comments and input on all issues or concerns relating to any of SBA's programs. Specifically, SBA seeks comments on how SBA best can provide access for tribally owned small businesses to initiatives under its Office of Manufacturing and Trade, with a particular focus on SBA's ongoing onshoring, manufacturing and export initiatives in an effort to encourage small businesses going global. SBA is requesting general comments and input on how these programs are working and is inviting suggestions on potential avenues for improving their efficiency or reducing any unnecessary regulatory burden associated with the programs.

DATES: The Tribal Consultation meeting date is Monday, October 27, 2025, 1:00 p.m. to 4:00 p.m. (EDT), Mashantucket, Connecticut. The Tribal Consultation meeting pre-registration deadline date is October 22, 2025.

ADDRESSES:

1. The Tribal Consultation meeting will be held at the Mashantucket Pequot Museum and Research Center, 110 Pequot Trail, Mashantucket, CT 06338.

2. Send pre-registration requests to attend and/or testify to Diane Cullo, Assistant Administrator of SBA's Office of Native American Affairs, U.S. Small Business Administration, 409 3rd Street SW, Washington, DC 20416; Diane.Cullo@sba.gov; or Facsimile to (202) 481-2177.

3. Remote participation registration is permitted with pre-registration. To attend the meeting remotely, the public can register here: https://www.zoomgov.com/j/1612981879?pwd=2VzfKaZ9kvIiQR5hMNvaBbmo5hTfMj.1.

4. You may submit written comments to SBA by sending them to Diane Cullo, Assistant Administrator, Office of Native American Affairs, U.S. Small Business Administration, 409 3rd Street SW, Washington, DC 20416; or Diane.Cullo@sba.gov.

If you wish to submit confidential business information (CBI), please submit the information to Diane Cullo, Assistant Administrator, Office of Native American Affairs, U.S. Small Business Administration, 409 3rd Street SW, Washington, DC 20416 and highlight the information that you consider to be CBI and explain why you believe this information should be held confidential. SBA will review the information and make a final determination of whether the information will be published or not.

FOR FURTHER INFORMATION CONTACT: Diane Cullo, Assistant Administrator, Office of Native American Affairs, at Diane.cullo@sba.gov or (202) 619-0518.

SUPPLEMENTARY INFORMATION:

I. Background

SBA is requesting comments and input on all programs and services of the Office of Manufacturing and Trade for tribal entities. The Office of Manufacturing and Trade's mission is to enhance the ability of small businesses to compete in the global marketplace.

As SBA's office for the support of small business international trade development, the Office of Manufacturing and Trade works in cooperation with other federal agencies and public- and private-sector groups to encourage small business exports and to assist small businesses seeking to export. Through U.S. Export Assistance Centers, SBA district offices and a variety of service-provider partners, we direct and coordinate SBA's ongoing onshoring and export initiatives to encourage small businesses going global. Comments are encouraged regarding exporting, trade tools for international sales, export loans, and the State Trade Expansion Program (STEP) grant. SBA also requests comments on its Made in America Manufacturing Initiative including the recently announced 7(a) Manufacturer's Access to Revolving Credit (MARC) loan program.

SBA is requesting general comments and input on how the Administration's programs and services are working and is inviting comments and suggestions on potential avenues for continuing to make all loan programs and services more effective and efficient while continuing to reduce regulatory burden on customers and participants.

President Trump recognizes that increasing domestic manufacturing is critical to U.S. national security.

• In 2023, U.S. manufacturing output as a share of global manufacturing output was 17.4%, down from 28.4% in 2001.

• The decline in manufacturing output has reduced U.S. manufacturing capacity.

○ The need to maintain a resilient domestic manufacturing capacity is particularly acute in advanced sectors like autos, shipbuilding, pharmaceuticals, transport equipment, technology products, machine tools, and basic and fabricated metals, where loss of capacity could permanently weaken U.S. competitiveness.

• U.S. stockpiles of military goods are too low to be compatible with U.S. national defense interests.

○ If the U.S. wishes to maintain an effective security umbrella to defend its citizens and homeland, as well as allies and partners, it needs to have a large upstream manufacturing and goods-producing ecosystem.

○ This includes developing new manufacturing technologies in critical sectors like bio-manufacturing, batteries, and microelectronics to support defense needs.

• Increased reliance on foreign producers for goods has left the U.S. supply chain vulnerable to geopolitical disruption and supply shocks.

○ This vulnerability was exposed during the COVID-19 pandemic, and later with Houthi attacks on Middle East shipping.

• From 1997 to 2024, the U.S. lost around 5 million manufacturing jobs and experienced one of the largest drops in manufacturing employment in history.

SBA seeks input on how best to include small business in implementing the President's initiative to increase domestic manufacturing.

SBA is also seeking input from the Native American community on the general management and operation of its economic development and access to capital programs as part of the Administration's desire to make these programs more effective and improve the delivery of them to the small business community. Accordingly, SBA is interested in receiving comments from representatives of tribes, ANCs and NHOs offering their perspective on how these programs are working generally and providing suggestions for how the programs could be made more efficient to better suit the needs of small businesses owned by these entities.

Tribal Consultation Meeting

The format of this tribal consultation meeting will consist of a panel of SBA representatives who will preside over the session. The oral and written testimony as well as any comments SBA receives will become part of the administrative record for SBA's consideration. Written testimony may be submitted in lieu of oral testimony. SBA will analyze the testimony, both oral and written, along with any written comments received. SBA officials may ask questions of a presenter to clarify or further explain the testimony. The purpose of the tribal consultation is to assist SBA with gathering information to guide SBA's review process and to potentially develop new proposals. SBA will accept written material that the presenter wishes to provide that further supplements his or her testimony. Electronic or digitized copies are encouraged.

The tribal consultation meeting will be held for one day. The meeting will begin at 1:00 p.m. and end at 4:00 p.m. (EDT). SBA will adjourn early if all those scheduled have delivered their testimony.

II. Registration

SBA respectfully requests that any elected or appointed representative of the tribal communities or principal of a tribally owned, ANC-owned or NHO-owned firm that is interested in attending please pre-register in advance and indicate whether you would like to testify at the hearing. Registration requests should be received by SBA by October 22, 2025. Please contact Diane Cullo, Assistant Administrator, Office of Native American Affairs in writing at Diane.Cullo@sba.gov. If you are interested in testifying, please include the following information relating to the person testifying: Name, Organization affiliation, Address, Telephone number, Email address and Fax number. SBA will attempt to accommodate all interested parties that wish to present testimony. Based on the number of registrants it may be necessary to impose time limits to ensure that everyone who wishes to testify can do so. SBA will confirm in writing the registration of presenters and attendees.

(Authority: 15 U.S.C. 634 and E.O. 13175, 65 FR 67249.)

* * * * *

Dated: September 24, 2025.
Diane Cullo,
Assistant Administrator Office of Native American Affairs.

[FR Doc. 2025-18807 Filed 9-26-25; 8:45 am]

BILLING CODE 8026-09-P